SECURITIES AND EXCHANGE COMMISSION

Sunshine Act Meeting

TIME AND DATE: Notice is hereby given, pursuant to the provisions of the Government in the Sunshine Act, Public Law 94-409, that the Securities and Exchange Commission will hold an Open Meeting on Wednesday, April 6, 2022 at 10:00 a.m.

PLACE: The meeting will be webcast on the Commission's website at www.sec.gov.

STATUS: The meeting will begin at 10:00 a.m. (ET) and will be open to the public via webcast on the Commission's website at www.sec.gov.

MATTERS TO BE CONSIDERED: 1. The Commission will consider whether to propose rules under the Securities Exchange Act of 1934 for the registration and regulation of security-based swap execution facilities (“SBSEFs”) and related matters. The proposed rules would also address the cross-border application of registration and execution requirements for security-based swaps. Additionally, the Commission will consider whether to propose rules designed to mitigate conflicts of interest at SBSEFs and national securities exchanges that trade security-based swaps.

CONTACT PERSON FOR MORE INFORMATION: For further information and to ascertain what, if any, matters have been added, deleted or postponed, please contact Vanessa A. Countryman from the Office of the Secretary at (202) 551-5400.

Authority: 5 U.S.C. 552b.

Dated: March 30, 2022.
Vanessa A. Countryman,
Secretary.

[FR Doc. 2022-07068 Filed 3-30-22; 4:15 pm]

BILLING CODE 8011-01-P